DEPARTMENT OF TRANSPORTATION

Federal Highway Administration

Environmental Impact Statement: New Castle County, DE

AGENCIES: Federal Highway Administration (FHWA) and the Delaware Department of Transportation (DelDOT).

ACTION: Notice of intent.

SUMMARY: The FHWA is issuing this notice to advise the public that an Environmental Impact Statement (EIS) will be prepared for a proposed highway improvement project in southern New Castle County, Delaware.

FOR FURTHER INFORMATION CONTACT: Mr. Robert F. Kleinburd, Realty and Environmental Program Manager, Federal Highway Administration, Delaware Division, J. Allen Frear Federal Building, 300 South New Street, Room 2101, Dover, DE 19904; Telephone: (302) 734-2966; or Mr. Mark Tudor, P.E., Project Manager, Delaware Department of Transportation, 800 Bay Road, P.O. Box 778, Dover, DE 19903; Telephone (302) 760-2275. DelDOT Public Relations Office (800) 652-5600 (in DE only).

SUPPLEMENTARY INFORMATION: The Federal Highway Administration (FHWA), in cooperation with the Delaware Department of Transportation (DelDOT), will prepare an Environmental Impact Statement (EIS) to consider the construction of a new roadway connection in southern New Castle County, Delaware. The proposed facility would connect two existing highways (U.S. Route 301 at the Maryland/Delaware border with Delaware Route 1, south of the C&D Canal), which pass through a rapidly developing area in southern New Castle County near the community of Middletown, Delaware.

In 1990, DelDOT initiated the U.S. Route 301 Corridor Study that resulted in the preparation of a Draft Environmental Impact Statement (DEIS). The DEIS evaluated the need for, location and design features of transportation alternatives to improve traffic service and operations on U.S. Route 301 and Delaware Route 896 between the Delaware/Maryland line and I-95. The DEIS compared the environmental impacts of a variety of alternatives, focused on highway solutions primarily assessing alternative highway corridors in a relatively narrow study area encompassing the Route 301/896 corridor. In December 1994, following completion of the DEIS, DelDOT announced that the corridor would be the subject of a Major Investment Study (MIS) that would assemble a package of land use measures, multi-modal transportation options, design standards for both transportation and land use activities, transportation demand management strategies and financing.

The Greater Route 301 Major Investment Study was initiated in 1995 and a Final Report was completed in 2000. The Final MIS recommended that three alternatives be studied in a new EIS. It is the intent of the FHWA and DelDOT to pursue the MIS recommendations and prepare the appropriate environmental documentation.

A program of public involvement and coordination with Federal, State, and local agencies will be initiated. Both agency coordination and public involvement will continue throughout the development of the EIS. Comments are being solicited from appropriate Federal, State, and local agencies, private organizations and citizens who have previously expressed or are known to have interest in this project. Additional informational meetings will be scheduled during the course of the project development effort. The draft EIS will be available for public and agency review and comment.

To ensure that the full range of issues related to this proposed action is addressed and all significant issues identified, comments and suggestions are invited from all interested parties. Comments or questions concerning this proposed action and the environmental documentation should be directed to the FHWA or DelDOT at the addresses provided above.

(Catalog of Federal Domestic Assistance Program Number 20.205, Highway Planning and Construction. The regulations implementing Executive Order 12372 regarding intergovernmental consultation on Federal programs and activities apply to this program.)
Dated: January 18, 2005.
Raymond J. McCormick,
Division Administrator, Federal Highway Administration, Dover, Delaware.

[FR Doc. 05-2112 Filed 2-2-05; 8:45 am]

BILLING CODE 4910-22-M